DEPARTMENT OF COMMERCE

Census Bureau

Proposed Information Collection; Comment Request; Survey of State Government Research and Development (R&D)

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before November 30, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Lisa McNelis, U.S. Census Bureau, Economic Reimbursable Surveys Division, 4600 Silver Hill Road, Washington, DC 20233-6900; (888) 340-7525 (or via the Internet at erd.sgrd@census.gov.).

SUPPLEMENTARY INFORMATION:

I. Abstract

The United States Census Bureau plans to continue to conduct the Survey of State Government Research and Development (SGRD) on behalf of the National Science Foundation (NSF) to measure research and development performed and funded by state governments in the United States.

The NSF Act of 1950, as amended, includes a statutory charge to “provide a central clearinghouse for the collection, interpretation, and analysis of data on scientific and engineering resources and to provide a source of information for policy formulation by other agencies in the Federal Government.” Under the aegis of this legislative mandate, NSF has sponsored surveys of research and development (R&D) since 1953, including since 2006 the Survey of State Government R&D. The Census Bureau's authorization to undertake this work is found at 13 U.S.C. Section 8(b) which provides that the Census Bureau “may make special statistical compilations and surveys for departments, agencies, and establishments of the Federal government, the government of the District of Columbia, the government of any possession or area (including political subdivisions thereof) . . . State or local agencies, or other public and private persons and agencies.”

The Survey of State Government R&D is the only comprehensive source of state government research and development expenditure data collected on a nationwide scale using uniform definitions, concepts, and procedures. The collection covers the expenditures of all agencies in the fifty state governments, the District of Columbia, and Puerto Rico that perform or fund R&D. The National Science Foundation has coordinated with the Census Bureau for the data collection. The NSF uses this collection to satisfy, in part, its need to collect research and development expenditures data.

Fiscal data provided by respondents aid data users in measuring the effectiveness of resource allocation. The products of this data collection make it possible for data users to obtain information on such things as expenditures according to source of funding (e.g., federal funds or state funds), by performer of the work (e.g., intramural and extramural to state agencies), by function (e.g., agriculture, energy, health, transportation, etc.), by type of work (e.g., basic research, applied research, or experimental development) for intramural performance of R&D, and by R&D plant (e.g., construction projects). Final results produced by NSF contain state and national estimates useful to a variety of data users interested in research and development performance including: The National Science Board; the Office of Management and Budget; the Office of Science and Technology Policy and other science policy makers; institutional researchers; and private organizations.

In order to increase the timeliness of the statistics, we plan to change the collection from a biennial survey which collected two years of data to an annual survey collecting one year of data. The state coordinators will no longer be asked to monitor agency response. As a result of this change, the average burden for state coordinators will decrease from 4 hours to 1 hour per response. We are also changing the response mode for state coordinators from a web form to an emailed Excel spreadsheet. We are making changes to the content of the web form which agency respondents are asked to complete. The changes are designed to capture specific information on source of funds (e.g., internal or external) for R&D performer type (e.g., intramural and extramural); collect information on intramural R&D by type-of-work (e.g., basic research, applied research, and experimental development); and to collect specific information on federal support to states for R&D. In order to obtain this information, we are: (i) Asking state agencies to provide information on the source of funds for extramural performance; (ii) Asking state agencies to provide information on basic research, applied research, and experimental development, but instead of asking for these on the agencies' total R&D expenditures (as was done previously) this question only applies to agencies with intramural R&D; and (iii) No longer asking agencies to identify how much of their total R&D was supported from federal funds, but have replaced this with a question asking how much R&D funds did the state receive from a list of specific federal departments and independent agencies. These changes will increase the agencies' average burden from one hour and 45 minutes to 2 hours per response. The total respondent burden will increase as a net result of these changes.

The survey announcements and forms used in the research and development survey are:

Survey Announcement. The Governor's letter is mailed to the Governor's Office to announce the survey collection and to solicit assignment of a State Coordinator. The State Coordinator's Announcement is sent electronically at the beginning of each survey period to solicit assistance in identifying state agencies which may perform or fund R&D activities.

Form SRD-1. This form contains item descriptions and definitions of the research and development items collected by the Census Bureau on behalf of the NSF. It is used primarily as a worksheet and instruction guide by the state agencies providing research and development expenditure data in their respective states. All states supply their data by electronic means.

II. Method of Collection

The Census Bureau will use a web-based collection strategy. State governors are emailed a request to appoint a state coordinator for the survey. Governors are asked to respond within 30 days. State coordinators are then emailed an Excel spreadsheet asking them to identify state agencies that may be active R&D performers. State coordinators are asked to respond within 30 days. State agencies identified by their respective state coordinators are emailed a pdf version of the form and directed to the Census Bureau's Business Help Site where they can complete the survey form online. Agencies are asked to respond within 60 days.

III. Data

OMB Control Number: 0607-0933.

Form Number(s): SRD-1.

Type of Review: Regular submission.

Affected Public: State Government Agencies.

Estimated Number of Respondents: 52 governors, 52 state coordinators and approximately 500 state government agencies.

Estimated Time per Response: 5 minutes for each governor, 1 hour for each state coordinator and 2 hours for each state agency surveyed.

Estimated Total Annual Burden Hours: 1,056.

Estimated Total Annual Cost to Public: $0.

Respondent's Obligation: Voluntary.

Legal Authority: Title 42 U.S.C. 1861-76: “National Science Foundation Act of 1950” as amended. Title 13, U.S.C. Section 8(b).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 25, 2015.
Glenna Mickelson,
Management Analyst, Office of the Chief Information Officer.

[FR Doc. 2015-24768 Filed 9-29-15; 8:45 am]

BILLING CODE 3510-07-P